DEPARTMENT OF ENERGY

Federal Energy Regulatory Commission

[Project No. 2630-004]

PacifiCorp, Oregon; Notice of Availability of Final Environmental Assessment

September 28, 2006.

In accordance with the National Environmental Policy Act of 1969 and the Federal Energy Regulatory Commission's (Commission) regulations, 18 CFR Part 380 (Order No. 486, 52 FR 47897), the Office of Energy Projects has reviewed the application for a new license for the Prospect Nos. 1, 2, and 4 Hydroelectric Project, located on the Rogue River, Middle Fork Rogue River, and Red Blanket Creek in Jackson County, Oregon, and has prepared a Final Environmental Assessment (Final EA) for the project. The Final EA contains the staff's analysis of the potential environmental impacts of the project and concludes that licensing the project, with appropriate environmental protective measures, would not constitute a major federal action that would significantly affect the quality of the human environment.

A copy of the Final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. You may also register online at http://www.ferc.gov/docs-filing/esubscription.asp to be notified via e-mail of new filings and issuances related to this or other pending projects. For assistance, contact FERC Online Support.

For further information, contact Nicholas Jayjack at (202) 502-6073.

Magalie R. Salas,
Secretary.

[FR Doc. E6-16414 Filed 10-4-06; 8:45 am]

BILLING CODE 6717-01-P